DEPARTMENT OF ENERGY

Federal Energy Regulatory Commission

[Docket Nos. CP07-62-000, CP07-63-000, CP07-64-000, CP07-65-000]

AES Sparrows Point LNG, L.C.C., Mid-Atlantic Express, L.L.C.; Notice of Technical Conference

January 3, 2008.

On Tuesday, January 15, 2008, staff of the Office of Energy Projects will convene a technical conference regarding the proposed Sparrows Point Import Terminal and Pipeline Project. The technical conference will be held at the Commission Headquarters in Washington, DC, room 3M-3.

The conference will be held in two sessions, morning and afternoon. The morning session will commence at 10 a.m. (EDT) and discuss issues related to Mid-Atlantic Express's proposal to construct some of its proposed pipeline in Baltimore Gas & Electric's right of way. The afternoon session will commence at 1 p.m. (EDT) and discuss liquefied natural gas (LNG) technical issues.

The morning session is open to the public. Due to the nature of critical energy infrastructure information (CEII) and security issues to be explored discussing LNG issues, the afternoon session is not open to the public. Attendance to the afternoon session will be limited to existing parties to the above-referenced proceeding (anyone who has specifically requested to intervene as a party) and to representatives of interested federal, state, and local agencies. Any person planning to attend the January 15th technical conference must register by close of business on Monday, January 14, 2008. Registration may be submitted either online at https://www.ferc.gov/whats-new/registration/tech-conf-01-15-form.asp or by faxing a copy of the form (found at the referenced online link) to 202-208-0353. Attendees to the afternoon session must sign a non-disclosure statement prior to entering that session. For additional information regarding the technical conference, please contact Joanne Wachholder at 202-502-8056.

Kimberly D. Bose,
Secretary.

[FR Doc. E8-229 Filed 1-9-08; 8:45 am]

BILLING CODE 6717-01-P